FEDERAL ELECTION COMMISSION

Sunshine Act Meetings

AGENCY: Federal Election Commission.

DATE and TIME: Thursday, May 21, 2015 At 10:00 a.m.

PLACE: 999 E Street NW., Washington, DC (Ninth Floor).

STATUS: This meeting will be open to the public.

ITEMS TO BE DISCUSSED:

Correction and Approval of Minutes for March 19, 2015

Audit Division Recommendation Memorandum on the Oakland County Democratic Party (OCDP) (A12-02)

Audit Division Recommendation Memorandum on Kevin McCarthy for Congress (KMFC) (A13-02)

Audit Division Recommendation Memorandum on New American City, Inc. (NAC)

Presentation by the FEC Staff on Enhanced Engagement with the Public and Stakeholders

Notice to Respondents of Information Sharing by the Commission

Proposed Statement of Policy Regarding the Public Disclosure of Closed Enforcement Files

Motion to Open a Rulemaking in Response to Comments and Testimony on the McCutcheon v. FEC ANPRM

Proposed Directive 74 on the Timely Resolution of Enforcement Matters

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2015-12159 Filed 5-15-15; 11:15 am]

BILLING CODE 6715-01-P